OFFICE OF THE UNITED STATES TRADE REPRESENTATIVE

Generalized System of Preferences (GSP): Notice of Initiation of the 2015 Annual GSP Product and Country Practices Review; Deadlines for Filing Petitions

AGENCY: Office of the United States Trade Representative.

ACTION: Notice of procedures for submission of petitions from the public.

SUMMARY: This notice announces that the Office of the United States Trade Representative (USTR) is prepared to receive petitions to modify the list of products that are eligible for duty-free treatment under the Generalized System of Preferences (GSP) program and to modify the GSP status of certain GSP beneficiary developing countries because of country practices. USTR is also prepared to receive petitions requesting waivers of competitive need limitations (CNLs). This notice provides that, pursuant to 15 CFR part 2007.3, the following deadlines apply with respect to the 2015 review: 5:00 p.m., Friday, October 16, 2015 for the submission of petitions to modify the list of articles eligible for duty-free treatment under GSP or to review the GSP status of any beneficiary developing country, and 5:00 p.m., Monday, November 23, 2015 for the submission of petitions requesting CNL waivers. The lists of petitions accepted for review will be announced in the Federal Register at a later date.

ADDRESSES: Public comments should be submitted electronically to www.regulations.gov in docket number USTR-2015-0013.

FOR FURTHER INFORMATION CONTACT: The GSP Program at the Office of the United States Trade Representative. The telephone number is (202) 395-2974, the fax number is (202) 395-9674, and the email address is gsp@ustr.eop.gov.

SUPPLEMENTARY INFORMATION:

I. The 2015 Annual GSP Review

The GSP regulations (15 CFR part 2007.3) provide the timetable for conducting an annual review, unless otherwise specified by notice in the Federal Register. Notice is hereby given that, in order to be considered in the 2015 Annual GSP Review, relevant petitions must be received by the GSP Subcommittee of the Trade Policy Staff Committee by the following deadlines:

Friday, October 16, 2015, 5:00 p.m.: Petitions to modify the list of articles eligible for duty-free treatment under GSP.

Friday, October 16, 2015, 5:00 p.m.: Petitions to review the GSP status of any beneficiary developing country.

Monday, November 23, 2015, 5:00 p.m.: Petitions requesting waivers of CNLs.

Petitions submitted after the above-listed deadlines will not be considered for review. Decisions on which petitions are accepted for review, along with a schedule for any related public hearings and the opportunity for the public to provide comments, will be announced in the Federal Register at a later date.

GSP Product Review Petitions

Interested parties, including foreign governments, may submit petitions to: (1) Designate additional articles as eligible for GSP benefits, including to designate articles as eligible for GSP benefits only if imported from countries designated as least-developed beneficiary developing countries, or only from countries designated as beneficiary sub-Saharan African countries under the African Growth and Opportunity Act (AGOA); (2) withdraw, suspend or limit the application of duty-free treatment accorded under the GSP with respect to any article; and (3) otherwise modify GSP coverage. Petitioners seeking to add products to eligibility for GSP benefits should note that, as provided in section 503(b) of the Trade Act (19 U.S.C. 2463(b)), certain articles may not be designated as eligible articles under GSP.

As specified in 15 CFR part 2007.1, all product petitions must include, inter alia, a detailed description of the product and the eight-digit subheading of the Harmonized Tariff Schedule of the United States (HTSUS) under which the product is classified.

Country Practices Review Petitions

Any interested party may submit a petition to review the GSP eligibility of any beneficiary developing country with respect to any of the designation criteria listed in sections 502(b) or 502(c) of the Trade Act (19 U.S.C. 2462(b) and (c)).

Competitive Need Limitations

Any interested party may submit a petition seeking a waiver of the 2015 CNL for individual beneficiary developing countries with respect to specific GSP-eligible articles (these limits do not apply to least-developed beneficiary developing countries or AGOA beneficiary countries). Before submitting petitions for CNL waivers, prospective petitioners may wish to review the 2015 year-to-date import trade data for products of interest. This data is available via the U.S. International Trade Commission's “Dataweb” database at http://dataweb.usitc.gov/. For more information on CNLs and how they apply to the GSP program, please visit the GSP page of the USTR Web site at https://ustr.gov/issue-areas/trade-development/preference-programs/generalized-system-preference-gsp.

II. Requirements for Submissions

All submissions for the GSP Annual Review must conform to the GSP regulations set forth at 15 CFR part 2007, except as modified below. These regulations are available on the USTR Web site at https://ustr.gov/issue-areas/trade-development/preference-programs/generalized-system-preference-gsp/gsp-program-inf.

All submissions in response to this notice must be in English and must be submitted electronically via http://www.regulations.gov, using docket number USTR-2015-0013. Hand-delivered submissions will not be accepted. Submissions that do not provide the information required by sections 2007.0 and 2007.1 of the GSP regulations will not be accepted for review, except upon a detailed showing in the submission that the petitioner made a good faith effort to obtain the information required.

To make a submission via http://www.regulations.gov, enter the docket number for this review—USTR-2015-0013—in the “Search for” field on the home page and click “Search.” The site will provide a search-results page listing all documents associated with this docket. Find a reference to this notice by selecting “Notice” under “Document Type” in the “Filter Results by” section on the left side of the screen and click on the link entitled “Comment Now.” (For further information on using the http://www.regulations.gov Web site, please consult the resources provided on the Web site by clicking on “How to Use This Site” on the left side of the home page.) The http://www.regulations.gov Web site allows users to provide comments by filling in a “Type Comment” field or by attaching a document using the “Upload file(s)” field. The GSP Subcommittee prefers that submissions be provided in an attached document.

Submissions must include, at the beginning of the submission, or on the first page (if an attachment), the following text (in bold and underlined): (1) “2015 GSP Annual Review”; and (2) the eight-digit HTSUS subheading number in which the product is classified (for product petitions) or the name of the country (for country practice petitions). Furthermore, interested parties submitting petitions that request action with respect to specific products should also list at the beginning of the submission, or on the first page (if an attachment) the following information: (1) The requested action; and (2) if applicable, the beneficiary developing country. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not responsible for any delays in a submission due to technical difficulties, nor is it able to provide any technical assistance for the http://www.regulations.gov Web site. Documents not submitted in accordance with these instructions may not be considered in this review. If an interested party is unable to provide submissions as requested, please contact the GSP program at USTR to arrange for an alternative method of transmission.

Business Confidential Petitions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Business confidential submissions that are submitted without the required markings, or are not accompanied by a properly marked non-confidential version, as set forth above, might not be accepted or may be considered public documents.

Public Viewing of Review Submissions

Submissions in response to this notice, except for information granted “business confidential” status under 15 CFR part 2003.6, will be available for public viewing pursuant to 15 CFR part 2007.6 at http://www.regulations.gov upon completion of processing. Such submissions may be viewed by entering the docket number USTR-2015-0013 in the search field at http://www.regulations.gov.

William D. Jackson,
Deputy Assistant U.S. Trade Representative for the Generalized System of Preferences, Office of the U.S. Trade Representative.

[FR Doc. 2015-20456 Filed 8-18-15; 8:45 am]

BILLING CODE 3290-F5-P